FARM CREDIT ADMINISTRATION

Privacy Act of 1974; System of Records

AGENCY: Farm Credit Administration.

ACTION: Notice of a modified system of records.

SUMMARY: Pursuant to the provisions of the Privacy Act of 1974, as amended, notice is hereby given that the Farm Credit Administration (FCA or Agency) is amending an existing system of records, FCA-16—Examiner Training and Education Records—FCA. The Examiner Training and Education Records—FCA system is used to track pre-commissioned examiners' training and progression towards becoming commissioned examiners. The Agency is updating the notice to rename and broaden the overall purpose of the system, including maintaining performance related information for FCA examiners and is updating the categories of records and individuals maintained in the system to reflect that modified purpose.

DATES: You may send written comments on or before June 26, 2023. FCA filed an amended System Report with Congress and the Office of Management and Budget on April 20, 2023. This notice will become effective without further publication on July 5, 2023 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to . . .” field, near the top of the page; select “comment on a pending regulation” from the dropdown menu; and click “Go.” This takes you to an electronic public comment form.

• Mail: Kevin Kramp, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Jane Virga, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records. The substantive changes and modifications to the currently published version of FCA-16—Examiner Training and Education Records—FCA include:

1. Updating the name of the system to reflect the expanded purpose—FCA-16—FCA Examiner Career Management, Training, and Performance Feedback Records—FCA.

2. Updating the categories of records to ensure they are consistent with the updated purpose.

3. Updating the categories of individuals to ensure they are consistent with the updated purpose.

4. Expanding and clarifying how records may be stored and retrieved.

The amended system of records is: FCA-16—Examiner Records—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

System Name and Number:

FCA-16—Examiner Career Management, Training, and Performance Feedback Records—FCA.

Security Classification:

Unclassified.

System Location:

Office of Examination, Farm Credit Administration, 1501 Farm Credit Drive, McLean, VA 22102-5090.

System Manager(s):

Director, Office of Examination, Farm Credit Administration, 1501 Farm Credit Drive, McLean, VA 22102-5090.

Authority for Maintenance of The System:

12 U.S.C. 2243, 2252.

Purpose(S) of The System:

FCA uses information in this system of records to (i) track pre-commissioned examiners' training and progression towards becoming commissioned examiners; (ii) collect and maintain performance feedback on examination activities and projects; and (iii) collect and maintain records related to the FCA Office of Examination examiner career development program.

Categories of Individuals Covered by The System:

Current and former FCA pre-commissioned and commissioned examiners, and their supervisors.

Categories of Records in The System:

This system contains information about FCA pre-commissioned and commissioned examiners related to career development, training and education history, and progress towards commissioning. Records include but are not limited to: (a) individual name, employee ID number, or similar; (b) employment related information including title, position, grade, start date, supervisor's name, and performance reports; (c) skills inventory form, professional licensees, certifications and memberships, training program record, formal training record, and results of commissioning test. Certain records included in an examiner's file are considered copies and are accounted for in OPM's government-wide system of records notice, OPM/GOVT-1—General Personnel Records, as well as FCA-1 and FCA-19. In some cases, this notice incorporates by reference but does not repeat all the information contained in those systems.

Record Source Categories:

Current and former FCA examiners that are the subject of the record, the examiner's supervisor, examiners-in-charge from examinations where the FCA examiner served as a team member; members of the examiner's supervision panel, and other current and former FCA employees with knowledge of the FCA examiner's performance on a specific examination or project, or their skills or knowledge as it pertains to their role as an FCA examiner.

Routine Uses of Records Maintained in The System, Including Categories of Users and Purposes of Such Uses:

See the “General Statement of Routine Uses” (64 FR 8175).

Disclosure to consumer reporting agencies:

None.

Policies and Practices for Storage of Records:

Records are maintained in files folders as well as electronically in a computerized database.

Policies and Practices for Retrieval of Records:

Records are retrieved by name.

Policies and Procedures for Retention and Disposal of Records:

Records are retained in accordance with the National Archives and Records Administration's General Records Schedule requirements, and with the FCA Comprehensive Records Schedule.

Administrative, Technical, and Physical Safeguards:

FCA implements multiple layers of security to ensure access to records is limited to those with need-to-know in support of their official duties. Records are physically safeguarded in a secured environment using locked file rooms, file cabinets, or locked offices and other physical safeguards. Computerized records are safeguarded through use of user roles, passwords, firewalls, encryption, and other information technology security measures.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedures:

Address inquiries about this system of records to: Privacy Act Officer, Farm Credit Administration, McLean, VA 22102-5090.

Exemptions Promulgated for The System:

None.

History:

Federal Register Vol. 64, No. 100/Tuesday, May 25, 1999 page 21875.

Vol. 70, No. 183/Thursday, September 22, 2005, page 55621.

Vol. 85, No. 148/Friday, July 31, 2020, page 46100.

Dated: May 22, 2023.
Ashley Waldron,
Secretary, Farm Credit Administration Board.

[FR Doc. 2023-11153 Filed 5-24-23; 8:45 am]

BILLING CODE 6705-01-P